DEPARTMENT OF VETERANS AFFAIRS

[OMB Control No. 2900-0717]

Agency Information Collection Activity Under OMB Review: Child Care Provider Information—For the Child Care Subsidy Program

AGENCY: Human Resources and Administration/Operations, Security, and Preparedness (HRA/OSP), Department of Veterans Affairs.

ACTION: Notice.

SUMMARY: In compliance with the Paperwork Reduction Act (PRA) of 1995, this notice announces that the Human Resources and Administration/Operations, Security, and Preparedness (HRA/OSP), Department of Veterans Affairs, will submit the collection of information abstracted below to the Office of Management and Budget (OMB) for review and comment. The PRA submission describes the nature of the information collection and its expected cost and burden, and it includes the actual data collection instrument.

DATES: Comments and recommendations for the proposed information collection should be sent by November 18, 2024.

ADDRESSES: To submit comments and recommendations for the proposed information collection, please type the following link into your browser: www.reginfo.gov/public/do/PRAMain, select “Currently under Review—Open for Public Comments”, then search the list for the information collection by Title or “OMB Control No. 2900-0717.”

FOR FURTHER INFORMATION CONTACT: VA PRA information: Maribel Aponte, 202-461-8900, vacopaperworkreduact@va.gov.

SUPPLEMENTARY INFORMATION:

Title: Child Care Provider Information—For the Child Care Subsidy Program.

OMB Control Number: 2900-0717 https://www.reginfo.gov/public/do/PRASearch.

Type of Review: Reinstatement with change of a previously approved collection.

Abstract: The Department of Veterans Affairs (VA) needs to collect information from child care providers to determine employee eligibility to participate in the VA Child Care Subsidy Program.

An agency may not conduct or sponsor, and a person is not required to respond to a collection of information unless it displays a currently valid OMB control number. The Federal Register Notice with a 60-day comment period soliciting comments on this collection of information was published at 89 FR 56477, July 9, 2024.

Affected Public: Individuals or Households.

Estimated Annual Burden: 937 Hours.

Estimated Average Burden per Respondent: 15 Minutes.

Frequency of Response: On Occasion.

Estimated Number of Respondents: 4,500.

Authority: 44 U.S.C. 3501 et seq.

Maribel Aponte,
VA PRA Clearance Officer, Office of Enterprise and Integration, Data Governance Analytics, Department of Veterans Affairs.

[FR Doc. 2024-23925 Filed 10-16-24; 8:45 am]

BILLING CODE 8320-01-P